DEPARTMENT OF HEALTH AND HUMAN SERVICES

Centers for Disease Control and Prevention

[30Day-02-04]

Proposed Data Collections Submitted for Public Comment and Recommendations

The Centers for Disease Control and Prevention (CDC) publishes a list of information collection requests under review by the Office of Management and Budget (OMB) in compliance with the Paperwork Reduction Act (44 U.S.C. chapter 35). To request a copy of these requests, call the CDC Reports Clearance Officer at (404) 498-1210. Send written comments to CDC, Desk Officer, Human Resources and Housing Branch, New Executive Office Building, Room 10235, Washington, DC 20503, or by fax to (202) 395-6974. Written comments should be received within 30 days of this notice.

Proposed Project: Evaluation of Customer Satisfaction with the Agency for Toxic Substances and Disease Registry Internet Home Page and Links (OMB No. 0923-0028)—Reinstatement—Agency for Toxic Substances and Disease Registry (ATSDR).

ATSDR proposes to conduct customer satisfaction research for its Internet site. Information on the site focuses on prevention of exposure and adverse human health effects and diminished quality of life associated with exposure to hazardous substances from waste sites, unplanned releases, and other sources of pollution present in the environment. The site is designed to serve the general public, persons at risk for exposure to hazardous substances, and health professionals.

Approval for a similar Customer Satisfaction Survey was requested in 2002 jointly with the Centers for Disease Control and Prevention (OMB No. 0920-0449, Expiration Date 09/30/2003). The new survey is solely for ATSDR and is significantly shorter and would require less time to complete.

This research will ensure that targeted audiences find the information easy to access, clear, informative, and useful. Specifically, the research will examine whether the information is presented in an appropriate technological format and meets the needs, wants, and preferences of visitors or “customers” using the Web site. Results from the previous survey were utilized to redesign the ATSDR Web site—making improvements to architecture, links, organization, and content. Results from the new survey will assist ATSDR in making more improvements to the Web site in order to better serve its customers and visitors. The estimated annualized burden is 83 hours.

Respondents | Number of respondents | Number of responses/ respondent | Average burden per response (in hrs.)
Visitors to ATSDR Internet Site | 1,000 | 1 | 5/60

Dated: November 13, 2003.
Laura Yerdon Martin,
Acting Director, Executive Secretariat, Centers for Disease Control and Prevention.

[FR Doc. 03-29214 Filed 11-21-03; 8:45 am]

BILLING CODE 4163-18-P